DEPARTMENT OF HEALTH AND HUMAN SERVICES

National Institutes of Health

National Institute of Environmental Health Sciences; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Environmental Health Sciences Special Emphasis Panel; R25 Undergraduate Research Education Program (UP) to Enhance Diversity in the Environmental Health Sciences.

Date: June 25, 2024.

Time: 10:00 a.m. to 5:00 p.m.

Agenda: To review and evaluate grant applications.

Place: National Institute of Environmental Health Science, 530 Davis Drive, Keystone Building, Durham, NC 27713 (Virtual Meeting).

Contact Person: Beverly W. Duncan, Ph.D., Scientific Review Officer, National Institute of Environmental Health Sciences, Keystone Building, 530 Davis Drive, Room 3130, Durham, NC 27713, (240) 353-6598, beverly.duncan@nih.gov.

Name of Committee: National Institute of Environmental Health Sciences Special Emphasis Panel; R25 Summer Research Education Experience Program.

Date: June 27, 2024.

Time: 10:00 a.m. to 4:00 p.m.

Agenda: To review and evaluate grant applications.

Place: National Institute of Environmental Health Science, 530 Davis Drive, Keystone Building, Durham, NC 27713 (Virtual Meeting).

Contact Person: Beverly W. Duncan, Ph.D., Scientific Review Officer, National Institute of Environmental Health Sciences, Keystone Building, 530 Davis Drive, Room 3130, Durham, NC 27713, (240) 353-6598, beverly.duncan@nih.gov.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: May 20, 2024.
Miguelina Perez,
Program Analyst, Office of Federal Advisory Committee Policy.

[FR Doc. 2024-11465 Filed 5-23-24; 8:45 am]

BILLING CODE 4140-01-P